DEPARTMENT OF ENERGY

Federal Energy Regulatory Commission

[Project No. 2837-033]

Erie Boulevard Hydropower, L.P.; Notice of Comment Period Extension

On December 14, 2018, the Commission issued a notice setting February 28, 2019, as the end of the formal period to file comments, recommendations, terms and conditions, and prescriptions for the license application for the Granby Hydroelectric Project No. 2837. Due to the funding lapse at certain federal agencies between December 22, 2018 and January 25, 2019, the Commission is extending the comment period until April 4, 2019.

Dated: February 11, 2019.
Kimberly D. Bose,
Secretary.

[FR Doc. 2019-02706 Filed 2-19-19; 8:45 am]

BILLING CODE 6717-01-P